DEPARTMENT OF HOMELAND SECURITY

Coast Guard

DEPARTMENT OF TRANSPORTATION

Maritime Administration

[USCG-2004-17696]

Main Pass Energy Hub LLC Liquefied Natural Gas Deepwater Port License Application; Preparation of Environmental Impact Statement

AGENCY: Coast Guard, DHS; and Maritime Administration, DOT.

ACTION: Notice of intent; notice of public meeting; and request for public comments.

SUMMARY: The U.S. Coast Guard and the Maritime Administration announce that the Coast Guard intends to prepare an environmental impact statement as part of the environmental review of the license application for the proposed Main Pass Energy Hub deepwater port, to be located approximately 16 miles southeast of Venice, Louisiana with its associated onshore and offshore components. Publication of this notice begins a public scoping process that will help determine the scope of issues to be addressed in the environmental impact statement and identify the significant environmental issues related to this license application. Finally, this notice solicits public involvement in the scoping process, and announces public meetings and a public comment period to facilitate that involvement.

DATES: The public meetings will be held August 10, 11, and 12, 2004, from 3 p.m. to 7 p.m. in Mobile, Alabama, Pascagoula, Mississippi, and New Orleans, Louisiana, respectively. Each meeting will consist of an informational open house, from 3 p.m. to 4:30 p.m., and a public scoping meeting, from 5 p.m. to 7 p.m. All meeting spaces will be wheelchair-accessible. Comments and related material must reach the docket on or before August 30, 2004.

ADDRESSES: The Mobile, Alabama informational open house and public meeting will be held at:

Mobile Government Plaza, 205 Government Street, Mobile, Alabama 36644, (251) 574-5058.

The Pascagoula, Mississippi informational open house and public meeting will be held at:

Jackson County Fairgrounds Assembly Hall, 2902 Shortcut Road, Pascagoula, Mississippi 39567, (228) 762-6043.

The New Orleans, Louisiana informational open house and public meeting will be held at:

New Orleans Marriott Hotel, 555 Canal Street, New Orleans, Louisiana 70130, 504-581-1000.

You need not attend the meetings in order to comment. You may also submit comments identified by docket number USCG-2004-17696 to the Docket Management Facility at the U.S. Department of Transportation. To avoid duplication, please use only one of the following methods:

(1) Electronically through the Web site for the Docket Management System, at http://dms.dot.gov.

(2) By mail to the Docket Management Facility, U.S. Department of Transportation, Room PL-401, 400 Seventh Street SW., Washington, DC 20590-0001.

(3) By fax to the Docket Management Facility at (202) 493-2251.

(4) By delivery to Room PL-401 on the Plaza level of the Nassif Building, 400 Seventh Street SW., Washington, DC, from 9 a.m. to 5 p.m., Monday through Friday, except Federal holidays. The telephone number is (202) 366-9329.

(5) By the Federal eRulemaking Portal at http://www.regulations.gov/.

The Docket Management Facility maintains the public docket for this notice. Comments and material received from the public will become part of this docket and will be available for inspection or copying in Room PL-401 on the Plaza level of the Nassif Building, 400 Seventh Street SW., Washington, DC, from 9 a.m. to 5 p.m. Monday through Friday, except Federal holidays. This docket may also be found on the Internet at http://dms.dot.gov.

FOR FURTHER INFORMATION CONTACT: If you have questions on the application, this notice, or the meetings, or if you want to be notified when the draft and final environmental impact statements become available, call Kenneth Smith at 202-267-0578, or e-mail at KNSmith@comdt.uscg.mil. If you have questions on the pipeline that is subject to Federal Energy Regulatory Commission (FERC) jurisdiction, call James Martin at 202-502-8045, or e-mail at james.martin@ferc.gov. If you have questions on viewing or submitting material to the docket, call Andrea M. Jenkins, Program Manager, Docket Operations, telephone 202-366-0271.

SUPPLEMENTARY INFORMATION:

Scoping Meetings and Request for Comments

We seek public review of and comment on this license application, particularly with respect to the environmental review discussed in this notice. Public input on environmental concerns related to the application, suggested sources of relevant data, and suggested methods for environmental analysis are especially welcome.

The Coast Guard will hold informational open houses and scoping meetings for interested members of the public, as described under DATES and ADDRESSES. Meeting facilities are wheelchair accessible. If you need other special assistance in order to participate in these sessions (for example, sign language interpretation), please contact the person named in FOR FURTHER INFORMATION CONTACT, and we will try to make reasonable accommodation for your needs. We ask that you make such requests at least three (3) business days before the scheduled meeting. Include a contact person's name and telephone number, your specific need, and (for persons with hearing impairments) a TDD number.

If you submit comments or related material to the docket (see DATES and ADDRESSES), please make your comment as specific as possible and give us the reasons for each comment. If you mail or hand-deliver printed documents, please submit them unbound and in a format suitable for copying and electronic filing, no larger than 8½ by 11 inches. If you submit comments or material by mail and want confirmation that it has reached the facility, please enclose a stamped, self-addressed postcard or envelope. We will consider all comments and material received during the comment period. All comments received will be posted, without change, to http://dms.dot.gov/ and will include any personal information you have provided.

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov/.

Environmental Review

Deepwater ports for the transportation, storage, or further handling of oil or natural gas must be licensed in accordance with the Deepwater Port Act of 1974, as amended, 33 U.S.C. 1501 et seq. (“the Act”). The Coast Guard and the Maritime Administration (MARAD) jointly process applications for deepwater port licenses. A notice of application for the Main Pass Energy Hub liquefied natural gas deepwater port proposed by Freeport-McMoRan Energy LLC, to be located in the Gulf of Mexico approximately 16 miles southeast of Venice, Louisiana was published in the Federal Register on June 9, 2004 (69 FR 32363). That notice contains a fuller description of the proposed deepwater port. The complete application, including environmental documentation provided by the applicant, is available in the public docket. The six-mile onshore portion of this pipeline above the mean high water line falls under the jurisdiction of FERC and must receive a separate authorization from FERC. Additional information about the onshore segment of the project is available on the FERC Internet Web site (http://www.ferc.gov) using the eLibrary link. Click on the eLibrary link, click on “General Search” and enter the docket number excluding the last three digits in the Docket Number field (e.g., CP04-374, CP04-375 and CP04-376). Be sure you have selected an appropriate date range. For assistance with eLibrary, the eLibrary helpline can be reached at 1-866-208-3676, TTY (202) 502-8659, or at FERC Online Support at FERCOnlineSupport@ferc.gov.

The Act establishes a licensing process for proposed deepwater ports, and that process includes review of the proposed port's natural and human environmental impacts. Consistent with the DWPA, this environmental review must comply with the National Environmental Policy Act of 1969 (NEPA), 42 U.S.C. 4332, and with the following authorities: Coast Guard regulations in 33 CFR part 148, Council on Environmental Quality regulations in 40 CFR parts 1500-1508, DOT Order 5610.1C (Procedures for Considering Environmental Impacts), and Coast Guard Commandant's Instruction (COMDTINST) M16475.1D. Environmental review includes public involvement, and consultation with States deemed adjacent to the proposed port (in this case, Louisiana, Alabama and Mississippi). The Coast Guard is the lead agency for determining the required scope of environmental review, and in this case the Coast Guard has determined that an environmental impact statement (EIS) must be prepared. Even though an affiliate of Main Pass Energy Hub LLC must separately apply for and receive an authorization from FERC for the onshore pipeline, this EIS will assess the environmental impacts of both the onshore and offshore portions of the project. We have consulted with FERC and understand that the affiliate applied to FERC for onshore pipeline authorization under Docket Number CP04-374-000, CP04-375-000 and CP04-376-000. Therefore, we are publishing the notice of intent described in 40 CFR 1508.22, to announce our intention to prepare and consider an EIS, and to describe our proposed action and possible alternatives, describe the scoping process required by 40 CFR 1501.7, and provide contact information. All comments related to this project, including the onshore pipeline, may be submitted in accordance with the guidance under ADDRESSES. Contact information is provided above, under FOR FURTHER INFORMATION CONTACT.

The proposed action requiring environmental review is the Federal licensing of the Main Pass Energy Hub deepwater port application. The alternatives to licensing approval are licensing with conditions (including conditions designed to mitigate environmental impact), and denying the application, which for purposes of environmental review is the “no-action” alternative.

Public scoping is an early and open process for determining the scope of issues to be addressed in an EIS and for identifying the significant issues related to a proposed action. The scoping process begins with publication of this notice, extends through the public comment period (see Dates), and ends when the Coast Guard completes the following actions:

• Invites the participation of Federal, State, and local agencies, any affected Indian tribe, the applicant, and other interested persons;

• Determines the actions, alternatives, and impacts described in 40 CFR 1508.25;

• Identifies and eliminates from detailed study those issues that are not significant or that have been covered elsewhere;

• Allocates responsibility for preparing EIS components;

• Indicates any related environmental assessments or environmental impact statements that are not part of the EIS;

• Identifies other relevant environmental review and consultation requirements;

• Indicates the relationship between timing of the environmental review and other aspects of the application process; and,

• At its discretion, exercises options provided in 40 CFR 1501.7(b).

Once the scoping process is complete, the Coast Guard will prepare a draft EIS, and we will publish a Federal Register notice announcing its public availability. If you want to be mailed or emailed the draft EIS notice of availability, please contact the person named in FOR FURTHER INFORMATION CONTACT. We will provide the public with an opportunity to review and comment on the draft EIS. After the Coast Guard considers those comments, we will prepare the final EIS and similarly announce its availability and solicit public review and comment.

Dated: July 23, 2004.
Joseph J. Angelo,
Director of Standards, Marine Safety, Security, and Environmental Protection, U.S. Coast Guard.
H. Keith Lesnick,
Senior Transportation Specialist, Deepwater Ports Program Manager, U.S. Maritime Administration.

[FR Doc. 04-17207 Filed 7-28-04; 8:45 am]

BILLING CODE 4910-15-P